DEPARTMENT OF TRANSPORTATION

Federal Highway Administration

Environmental Impact Statement: Shelby County, TN

AGENCY: Federal Highway Administration (FHWA), DOT.

ACTION: Notice of Intent.

SUMMARY: The FHWA is issuing this notice to advise the public that an environmental impact statement will be prepared for a proposed highway project in Shelby County, Tennessee.

FOR FURTHER INFORMATION CONTACT: Mr. Mark Doctor, Field Operations Team Leader, Federal Highway Administration, 640 Grassmere Park Suite 112, Nashville, Tennessee 37211, Telephone: (615) 781-5788.

SUPPLEMENTARY INFORMATION: The FHWA, in cooperation with the Tennessee Department of Transportation, will prepare an environmental impact statement (EIS) on a proposal to improve and extend North Second Street from Interstate 40 to the State Route 300/U.S. 51 (Thomas Street) interchange in Memphis. This proposed transportation improvement project is identified in the Memphis Metropolitan Area Long Range Transportation Plan as a Priority One facility. The main project purpose is to provide a transportation facility that improves accessibility and promotes economic development opportunities for the north Memphis, Frayser, and downtown Memphis communities.

Alternatives to be considered are: (1) Taking no action; (2) improve existing North Second Street and North Third Street as one-way pairs from I-40 to Henry Avenue and widen North Second Street north of Henry Avenue as a two-way street with three-lanes in each direction; (3) improve existing Auction Avenue and U.S. 51 (Thomas Street) as a six-lane facility; and (4) other alternatives that may arise from public and agency input.

Initial coordination letters describing the proposed action and soliciting comments were previously sent to appropriate Federal, State and local agencies, and to private organizations and citizens who have previously expressed or are known to have an interest in this proposal. Two public information meetings and two preliminary inter-agency scoping meetings have been held for the project and a public hearing will be scheduled upon completion of the Draft EIS. Public notice will be given of the time and place of the hearing. The Draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: October 28, 2002.
Mark A. Doctor,
Field Operations Team Leader, Tennessee Division, Nashville, Tennessee.

[FR Doc. 02-28335 Filed 11-6-02; 8:45 am]

BILLING CODE 4910-22-M